DEPARTMENT OF HEALTH AND HUMAN SERVICES

National Institutes of Health

Government-Owned Invention; Availability for Licensing: “Therapeutic Method to Treat Cancer and Define Cellular Regulatory Processes—Transcription Factor Decoy and Tumor Growth Factor”

AGENCY: National Institutes of Health, Public Health Service, DHHS.

ACTION: Notice.

SUMMARY: The invention listed below is owned by an agency of the U.S. Government and is available for licensing in the U.S. in accordance with 35 U.S.C. 207 to achieve expeditious commercialization of results of federally funded research and development.

ADDRESSES: Licensing information and a copy of the U.S. patent application referenced below may be obtained by contacting J. R. Dixon, Ph.D., at the Office of Technology Transfer, National Institutes of Health, 6011 Executive Boulevard, Suite 325, Rockville, Maryland 20852-3804 (telephone 301/496-7056 ext 206; fax 301/402-0220; E-Mail: jd212g@NIH.GOV). A signed Confidential Disclosure Agreement is required to receive a copy of any patent application.

SUPPLEMENTARY INFORMATION: Invention Title: “Transcription Factor Decoy and Tumor Growth Inhibitor”.

Inventors: Dr. Yoon S. Cho-Chung (NCI).

USPA SN: 08/977,643 [= DHHS Ref. No. E-192-97/0]—Filed with the U.S.P.T.O. on November 24, 1997.

Technology: Alteration of gene transcription by inhibition of specific transcriptional regulatory proteins has important therapeutic potential. Synthetic double-stranded phosphorothioate oligonucleotides with high affinity for a target transcription factor can be introduced into cells as decoy cis-elements to bind the factors and alter gene expression. The CRE (cyclic AMP response element)-transcription factor complex is a pleiotropic activator that participates in the induction of a wide variety of cellular and viral genes. Because the CRE cis-element, TGACGTCA, is palindromic, a synthetic single-stranded oligonucleotide composed of the CRE sequence self-hybridizes to form a duplex/hairpin. The CRE-palindromic oligonucleotide can penetrate into cells, compete with CRE enhancers for binding transcription factors, and specifically interfere with CRE- and AP-1-directed transcription in vivo. These oligonucleotides restrained tumor cell proliferation, without affecting the growth of noncancerous cells. This decoy oligonucleotide approach offers great promise as a tool for defining cellular regulatory processes and treating cancer and other diseases. [see J. Biol. Chem. 274, 1573-1580 (1999); online at http://www.jbc.org/]

The above mentioned Invention is available, including any available foreign intellectual property rights, for licensing.

Dated: March 24, 2000.
Jack Spiegel,
Director, Division of Technology Development & Transfer, Office of Technology Transfer

[FR Doc. 00-8106 Filed 3-31-00; 8:45 am]

BILLING CODE 4140-01-P